DEPARTMENT OF COMMERCE

Foreign-Trade Zones Board

[B-07-2020]

Foreign-Trade Zone (FTZ) 52—Hauppauge, New York, Notification of Proposed Production Activity, Regent Tek Industries, Inc. (Road Marking Material), Shirley, New York

Regent Tek Industries, Inc. (Regent Tek), submitted a notification of proposed production activity to the FTZ Board for its facility in Shirley, New York. The notification conforming to the requirements of the regulations of the FTZ Board (15 CFR 400.22) was received on January 31, 2020.

Regent Tek's facility is located within FTZ 52. The facility is used for the production of thermoplastic road marking material. Pursuant to 15 CFR 400.14(b), FTZ activity would be limited to the specific foreign-status materials and components and specific finished products described in the submitted notification (as described below) and subsequently authorized by the FTZ Board.

Production under FTZ procedures could exempt Regent Tek from customs duty payments on the foreign-status components used in export production. On its domestic sales, for the foreign-status materials/components noted below, Regent Tek would be able to choose the duty rates during customs entry procedures that apply to thermoplastic granular road marking material (duty rate 3.2%). Regent Tek would be able to avoid duty on foreign-status components which become scrap/waste. Customs duties also could possibly be deferred or reduced on foreign-status production equipment.

The components and materials sourced from abroad include: Titanium dioxide (TiO2); glass beads (M247 Type 1); resins—pentaerythritol ester of rosin and alkyd gum-based resin; and, stearic acid—saturated fatty acid (duty rate ranges from 2.1c/kg + 3.8% to 6%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is March 23, 2020.

A copy of the notification will be available for public inspection in the “Reading Room” section of the Board's website, which is accessible via www.trade.gov/ftz.

For further information, contact Christopher Wedderburn at Chris.Wedderburn@trade.gov or (202) 482-1963.

Dated: February 7, 2020.
Andrew McGilvray,
Executive Secretary.

[FR Doc. 2020-02788 Filed 2-11-20; 8:45 am]

BILLING CODE 3510-DS-P